DEPARTMENT OF TRANSPORTATION

Federal Highway Administration

[Docket No. FHWA-2017-0050]

Agency Information Collection Activities: Request for Comments for the Renewal of an Information Collection

AGENCY: Federal Highway Administration (FHWA), DOT.

ACTION: Notice and request for comments.

SUMMARY: The FHWA invites public comments about our intention to request approval from the Office of Management and Budget (OMB) for a new information collection, which is summarized below under SUPPLEMENTARY INFORMATION. We are required to publish this notice in the Federal Register by the Paperwork Reduction Act of 1995.

DATES: Please submit comments by February 5, 2018.

ADDRESSES: You may submit comments identified by DOT Docket ID 2017-0050 by any of the following methods:

Web site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground

Floor, Room W12-140, 1200 New Jersey Avenue SE., Washington, DC 20590, between 9 a.m. and 5 p.m. ET, Monday through Friday, except Federal holidays.

FOR FURTHER INFORMATION CONTACT: Jeff Purdy, 202-366-6993, Office of Freight Management & Operations (HOFM-1), Office of Operations, Federal Highway Administration, Department of Transportation, 1200 New Jersey Avenue, Southeast, Washington, DC 20590. Office hours are from 7:30 a.m. to 4:00 p.m., Monday through Friday, except Federal holidays.

SUPPLEMENTARY INFORMATION:

Title: USDOT Survey and Comparative Assessment of Truck Parking Facilities.

Background: U.S. Department of Transportation (USDOT) is directed to complete a survey and comparative assessment of truck parking facilities in each State as required by Section 1401(c) of Moving Ahead for Progress in the 21st Century (MAP-21). MAP-21 Section 1401(c) required the survey in order to evaluate the capability of the States to provide adequate parking and rest facilities for commercial motor vehicles engaged in interstate transportation. Other work activities required under this section of MAP-21 were: An assessment of the volume of commercial motor vehicle traffic in each State and the development of a system of metrics designed to measure the adequacy of commercial motor vehicle truck parking facilities in each state. A survey was conducted in 2014 and is available at: https://ops.fhwa.dot.gov/freight/infrastructure/truck_parking/jasons_law/truckparkingsurvey/index.htm. MAP-21 Section 1401(c)(3) called for periodic updates to the survey, which is the intent of the proposed updated survey. The results of this updated survey shall be made available on a publicly accessible Department of Transportation Web site and updated periodically USDOT seeks to continue to collect data to support updates to the survey.

Respondents: State Transportation and Enforcement Officials, Private Sector Facility Owners/Operators, Trucking Company owners or their designee, and Truck Drivers. The target groups of respondents are individuals who are responsible for providing or overseeing the operation of truck parking facilities and stakeholders that depend on such facilities to safely conduct their business. The target group identified in the legislation is “state commercial vehicle safety personnel;” the Federal Highway Administration (FHWA) has interpreted this term to include the Department of Transportation personnel in each State involved in commercial vehicle safety program activities and State enforcement agency personnel directly involved in enforcing highway safety laws and regulations and in highway incident and accident response. In addition, FHWA finds that the survey on the adequacy of truck parking opportunities is not limited to publicly owned facilities; input from private sector facility owners/operators must be obtained to adequately complete the required work provided in the federal legislation. FHWA also finds that input obtained from trucking company representatives (owners or their designees, especially those in logistics or who schedule drivers) and truck drivers, key stakeholders for truck parking facilities who are most likely to know where truck parking is needed, will be necessary to complete the survey requirements. As per MAP-21 Section 1401(c)(3), this survey will be conducted periodically to allow for required updates.

Types of Survey Questions: FHWA intends to survey Department of Transportation personnel in each State on the location, number of spaces, availability and demand for truck parking in their State, including at rest facilities, truck parking information systems, truck parking plans, as well as any impediments to providing adequate truck parking capacity (including but not limited to legislative, regulatory, or financial issues; zoning; public and private impacts, approval, and participation; availability of land; insurance requirements and other issues). FHWA intends to survey private truck stop operators in each State on the location, number of truck parking spaces, availability and demand they observe at their facilities. FHWA intends to survey public safety officials in each State on their records and observations of truck parking use and patterns, including the location and frequency of trucks parked adjacent to roadways and on exit and entrance ramps to roadway facilities. FHWA intends to survey trucking companies and truck drivers regarding the location and frequency of insufficient truck parking and capacity at rest facilities, future truck parking needs and locations, availability of information on truck parking capacity, and other impediments to identification, access and use of truck parking. Other questions may be included as needed as a result of input from the focus groups, stakeholder outreach or at FHWA's discretion, or as follow-up to the survey.

Estimate

State Departments of Transportation = 50 (4 hours each) = up to 200 hours;

State Enforcement Personnel = 50 (1 hour each) = up to 50 hours;

Private Facility Owners/Operators = 229 (1 hour each) = up to 229 hours; and

Trucking Company Representatives and Drivers = 150 (1 hour each) = up to 150 hours;

Total number of respondents = 479 for the survey.

Total burden hours = no more than 629 hours (as allocated above).

Estimated Total Annual Burden: This survey will be updated periodically; the estimated total burden for each survey cycle for all respondents is no more than 629 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: November 30, 2017.
Michael Howell,
Information Collection Officer.

[FR Doc. 2017-26266 Filed 12-5-17; 8:45 am]

BILLING CODE 4910-22-P